DEPARTMENT OF COMMERCE

National Oceanic and Atmospheric Administration

RIN 0648-XG642

Fishing Capacity Reduction Program for the Southeast Alaska Purse Seine Salmon Fishery

AGENCY: National Marine Fisheries Service (NMFS), National Oceanic and Atmospheric Administration (NOAA), Commerce.

ACTION: Notice of revised referendum voting period.

SUMMARY: On December 3, 2018, NMFS issued a notice to announce the voting period for the proposed second fishing capacity reduction program loan in the Southeast Alaska Purse Seine Salmon Fishery and inform persons of their eligibility to vote. This notice informs the public of the revised referendum voting period due to the lapse in appropriations. The referendum, if approved, will result in a loan of $10.1 million and permanently retire an additional 36 permits from the fishery.

DATES: The referendum voting period will now start on February 4, 2018 and end on March 6, 2019. Any votes not received by NMFS by 5 p.m. on March 6, 2019, will not be counted.

ADDRESSES: Send questions about this notice to Michael A. Sturtevant, Acting Chief, Financial Services Division, NMFS, Attn: SE Alaska Purse Seine Salmon Buyback, 1315 East-West Highway, Silver Spring, MD 20910 (see FOR FURTHER INFORMATION CONTACT).

FOR FURTHER INFORMATION CONTACT: Elaine Saiz at (301) 427-8752, fax (301) 713-1306, or elaine.saiz@noaa.gov.

SUPPLEMENTARY INFORMATION:

I. Background

The Southeast Alaska purse seine salmon fishery is a commercial fishery in Alaska state waters and adjacent Federal waters. It encompasses the commercial taking of salmon with purse seine gear, and participation is limited to fishermen designated by the Alaska Commercial Fisheries Entry Commission (CFEC). Congress authorized a $23.5 million loan to finance a fishing capacity reduction program in the Southeast Alaska purse seine salmon fishery. NMFS published proposed program regulations on May 23, 2011 (76 FR 29707), and final program regulations on October 6, 2011 (76 FR 61986), to implement the reduction program. Interested persons should review these documents for further program details.

In 2012, NMFS conducted a referendum to determine the remaining fishermen's willingness to repay a $13.1 million fishing capacity reduction loan to remove 64 permits. After a majority of permit holders approved the loan, NMFS disbursed payments to the successful bidders and began collecting fees to repay the loan. Since only $13.1 million was expended from the total loan amount, $10.4 million remains available. This referendum, if approved, will result in a loan of $10.1 million and permanently retire an additional 36 permits from the fishery.

In June, 2018, the Southeast Revitalization Association submitted a capacity reduction plan to NMFS and NMFS approved the plan in November, 2018. As of November 16, 2018, there are 315 permits in the fishery designated as S01A by CFEC. In accordance with the final regulations, NMFS published the notice on December 3, 2018 (83 FR 62302). The original voting period was to start January 15, 2019 and end on February 14, 2019. Due to the lapse in appropriations we have revised voting period to the new dates.

II. Referendum Voting Period

The referendum voting period will start February 4, 2019, and end on March 6, 2019. Any votes not received by NMFS by 5 p.m. on March 6, 2019, will not be counted.

Dated: January 29, 2019.
Brian T. Pawlak,
CFO/Director, Office of Management and Budget, National Marine Fisheries Service.

[FR Doc. 2019-00679 Filed 1-31-19; 8:45 am]

BILLING CODE 3510-22-P